DEPARTMENT OF TRANSPORTATION

Federal Aviation Administration

Approval of Noise Compatibility Program for the Atlantic City International Airport, Atlantic City, NJ

AGENCY: Federal Aviation Administration, DOT.

ACTION: Notice.

SUMMARY: The Federal Aviation Administration (FAA) announces its findings on the noise compatibility program submitted by the South Jersey Transportation Authority under the provisions of 49 U.S.C., (the Aviation Safety and Noise Abatement Act, hereinafter referred to as “the Act”) and 14 CFR part 150. These findings are made in recognition of the description of Federal and nonfederal responsibilities in Senate Report No. 96-52 (1980). On July 15, 2005 the FAA determined that the noise exposure maps submitted by the South Jersey Transportation Authority under part 150 were in compliance with applicable requirements. On January 11, 2006, the FAA approved the Atlantic City International Airport's noise compatibility program. FAA approved in whole or in part all three proposed measures.

DATES: The effective date of the FAA's approval of the Atlantic City International Airport's noise compatibility program update is January 11, 2006.

FOR FURTHER INFORMATION CONTACT: Maria Stanco, Environmental Protection Specialists, Federal Aviation Administration, New York Airports District Office, 600 Old Country Road, Suite 446, Garden City, NY 11530, Telephone 516 227-3808. Documents reflecting this FAA action may be reviewed at this same location.

SUPPLEMENTARY INFORMATION: This notice announces that the FAA has given its overall approval to the noise compatibility program for the Atlantic City International Airport, effective January 11, 2006.

A. Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Federal aviation Regulations (FAR) part 150 is a local program, not a Federal program. The FAA does not substitute its judgment for that of the airport proprietor with respect to which measures should be recommended for action. The FAA's approval or disapproval of FAR part 150 program recommendations is measured according to the standards expressed in part 150 and the Act and is limited to the following determinations:

1. The noise compatibility program was developed in accordance with the provisions and procedures of FAR part 150;

2. Program measures are reasonably consistent with achieving the goals of reducing existing non-compatible land uses around the airport and preventing the introduction of additional non-compatible land uses;

3. Program measures would not create an undue burden on interstate or foreign commerce, unjustly discriminate against types or classes of aeronautical uses, violate the terms of airport grant agreements, or intrude into areas preempted by the Federal government; and

4. Program measures relating to the uses of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA New York Airports District Office in Garden City, New York.

The South Jersey Transportation Authority submitted its noise exposure maps, descriptions, and other documentation produced during the noise compatibility study in 2003 to the FAA on December 31, 2004. The Atlantic City International Airport's noise exposure maps were determined by FAA to be in compliance with applicable requirements on July 15, 2005. Notice of this determination was published in the Federal Register on July 27, 2005.

The Atlantic City International Airport study contains a proposed noise compatibility program update comprised of actions designed for phased implementation by airport management and adjacent jurisdictions. It was requested that the FAA evaluate and approve this material as a noise compatibility program as described in section 104(b) of the Act. The FAA began its review of the program on July 15, 2005 and was required by a provision of the Act to approve or disapprove the program within 180 days (other than the use of new or modified flight procedures for noise control). Failure to approve or disapprove such program within the 180-day period shall be deemed to be an approval of such program.

The submitted noise compatibility program contained three proposed actions for noise mitigation. The FAA completed its review and determined that the procedural and substantive requirements of the Act and FAR part 150 have been satisfied. The Acting Associate Administrator for Airports approved the overall program effective January 11, 2006.

All three program measures have been approved in whole or in part. Measure 3 (use of Runway 13-31 as the preferential runway for night departures) was disapproved in part due to ATCT concerns.

These determination are set forth in detail in a Record of Approval signed by the Acting Associate Administrator for Airports on January 11, 2006. The Record of Approval, as well as other evaluation materials and the documents comprising the submittal, are available for review at the FAA office listed above and at the administration offices of the South Jersey Transportation Authority. The Record of Approval also will be available on-line at http://www.faa.gov/arp/environmental/14cfr150/index14.cfm.

Issued in Garden City, New York, March 3, 2006.
Otto N. Suriani,
Acting Manager, New York Airports District Offices.

[FR Doc. 06-2350 Filed 3-10-06; 8:45 am]

BILLING CODE 4910-13-M